ENVIRONMENTAL PROTECTION AGENCY

[FRL-7231-3]

Proposed Settlement Agreement; Motor Vehicle Emissions Budgets (“MVEBs”) in the Submitted Houston-Galveston Area Attainment Demonstration

AGENCY: Environmental Protection Agency (EPA).

ACTION: Notice of proposed settlement; request for public comment.

SUMMARY: In accordance with section 113(g) of the Clean Air Act (Act), notice is hereby given of a proposed settlement in litigation instituted against the Environmental Protection Agency (EPA) challenging EPA's June 14, 2000, determination of adequacy of the motor vehicle emissions budgets (“MVEBs”) in the submitted Houston-Galveston Area Attainment Demonstration State Implementation Plan for ozone for transportation conformity purposes. Environmental Defense (ED) and several Houston area environmental organizations and individuals challenged EPA's adequacy determination published at 65 FR 37368. ED, et al. v. EPA, 5th Cir. No. 00-60570.

EPA has entered into a proposed settlement with the litigants in this matter. Under this proposed settlement, the petitioners will dismiss the litigation with prejudice and EPA will take certain actions relating to the ongoing transportation conformity process in the Houston-Galveston Area.

For a period of thirty (30) days following the date of publication of this notice, the Agency will receive written comments relating to the proposed settlement. EPA or the Department of Justice may withhold or withdraw consent to the proposed settlement if the comments disclose facts or circumstances that indicate that such consent is inappropriate, improper, inadequate, or inconsistent with the requirements of the Act.

Copies of the proposed settlement are available from Phyllis Cochran, Air and Radiation Division (2344A), Office of General Counsel, U.S. Environmental Protection Agency, 1200 Pennsylvania Avenue, NW, Washington, DC 20460, (202) 564-7606. Written comments should be sent to Sara Schneeberg at the above address and must be submitted on or before July 15, 2002.

Dated: June 10, 2002.
Lisa K. Friedman,
Associate General Counsel, Air and Radiation Law Office.

[FR Doc. 02-15092 Filed 6-13-02; 8:45 am]

BILLING CODE 6560-50-P